INTERNATIONAL TRADE COMMISSION

[Investigation No. 731-TA-643 (Review); Investigations Nos. 731-TA-661-662 (Review)]

Defrost Timers From Japan; Color Negative Photo Paper and Chemicals From Japan and The Netherlands

AGENCY: United States International Trade Commission.

ACTION: Termination of five-year reviews.

SUMMARY: The subject five-year reviews were initiated in December 1999 to determine whether revocation of the existing antidumping duty order on defrost timers/termination of the suspended investigations on color negative photo paper and chemicals would be likely to lead to continuation or recurrence of dumping and of material injury to a domestic industry. On February 16, 2000, the Department of Commerce published notice that it was revoking the order/terminating the suspended investigations “because no domestic party responded to the sunset review notice of initiation by the applicable deadline” (65 FR 7830). Accordingly, pursuant to section 207.69 of the Commission's Rules of Practice and Procedure (19 CFR § 207.69), the subject reviews are terminated.

EFFECTIVE DATE: February 16, 2000.

FOR FURTHER INFORMATION CONTACT: Vera Libeau (202-205-3176), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: These reviews are being terminated under authority of title VII of the Tariff Act of 1930; this notice is published pursuant to section 207.69 of the Commission's rules (19 CFR § 207.69).

By order of the Commission.
Issued: February 18, 2000.
Donna R. Koehnke,
Secretary.

[FR Doc. 00-4496 Filed 2-24-00; 8:45 am]

BILLING CODE 7020-02-P